DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Fillmore & Western Railroad Co.

[Waiver Petition Docket Number FRA-2010-0139]

The Fillmore & Western Railroad Company (FWRY) seeks a waiver of compliance from certain provisions of the Railroad Freight Car Safety Standards, 49 CFR 215.303, which requires stenciling of restricted cars; as well as 49 CFR 224.3, which requires Reflectorization for freight cars. FWRY owns sixteen rail cars that are older than 50 years from their date of original construction, and are restricted by the provision of 49 CFR 215.203(a). FWRY is concurrently seeking special approval to continue to use these cars under proceeding according to 49 CFR 215.203(b).

To support its petition to seek relief from the stenciling and reflectorization requirements, FWRY states that the cars subject to this waiver are only used for tourist passengers, films, movies, props, still photos and the like. Although FWRY is considered a general system railroad, these subject cars are not interchanged in or with the general system, and are not freight revenue cars. FWRY asks for this waiver due to the fact that the movie and television companies, still photographers and the like want the cars to be authentic in their antiquated and historic look.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0139) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on September 28, 2010.
Robert C. Lauby,
Deputy Associate Administrator.

[FR Doc. 2010-25002 Filed 10-4-10; 8:45 am]

BILLING CODE 4910-06-P